DEPARTMENT OF THE TREASURY

Internal Revenue Service

Open Meeting of the Taxpayer Advocacy Panel Tax Forms and Publications Project Committee

AGENCY: Internal Revenue Service (IRS), Treasury.

ACTION: Notice of meeting.

SUMMARY: An open meeting of the Taxpayer Advocacy Panel Tax Forms and Publications Project Committee will be conducted. The Taxpayer Advocacy Panel is soliciting public comments, ideas and suggestions on improving customer service at the Internal Revenue Service.

DATES: The meetings will be held Thursday, January 15, 2015 and Friday, January 16, 2015.

FOR FURTHER INFORMATION CONTACT: Donna Powers at 1-888-912-1227 or (954) 423-7977.

SUPPLEMENTARY INFORMATION: Notice is hereby given pursuant to section 10(a)(2) of the Federal Advisory Committee Act, 5 U.S.C. App. (1988) that an open meeting of the Taxpayer Advocacy Panel Tax Forms and Publications Project Committee will be held Thursday, January 15, 2015, from 8:00 a.m. to 4:30 p.m. and Friday, January 16, 2015, from 8:00 a.m. to 12:00 p.m. Eastern Time. The public is invited to make oral comments or submit written statements for consideration. Notification of intent to participate must be made with Ms. Powers. For more information please contact Ms. Powers at 1-888-912-1227 or (954) 423-7977 or write: TAP Office, 1000 S. Pine Island Road, Plantation, FL 33324 or contact us at the Web site: http://www.improveirs.org.

The committee will be discussing various issues related to Tax Forms and Publications and public input is welcomed.

Dated: December 3, 2014.
Otis Simpson,
Acting Director, Taxpayer Advocacy Panel.

[FR Doc. 2014-28853 Filed 12-9-14; 8:45 am]

BILLING CODE 4830-01-P